ENVIRONMENTAL PROTECTION AGENCY

[EPA-HQ-OMS-2022-0777; FRL-10373-01-OMS]

Information Collection Request Submitted to OMB for Review and Approval; Comment Request, Ethnicity, Race, Gender and Disability Form

AGENCY: Environmental Protection Agency (EPA).

ACTION: Notice.

SUMMARY: The Environmental Protection Agency (EPA) has submitted an information collection request (ICR), Ethnicity, Race, Gender and Disability Form (EPA ICR Number 2717.01, OMB Control Number 2030-NEW) to the Office of Management and Budget (OMB) for review and approval in accordance with the Paperwork Reduction Act. This is a request for approval of a new collection. Public comments were previously requested via the Federal Register on March 2, 2022, and another notice was published on April 21, 2022 to extend the public comment period to allow for a 60-day comment period on supplemental documents that were added to the docket. This notice allows for an additional 30 days for public comments. A fuller description of the ICR is given below, including its estimated burden and cost to the public. An agency may not conduct, or sponsor and a person is not required to respond to a collection of information unless it displays a currently valid OMB control number.

DATES: Additional comments may be submitted on or before November 28, 2022.

ADDRESSES: Submit your comments to EPA, referencing Docket ID No. EPA-HQ-OMS-2022-0277, online using www.regulations.gov (our preferred method), by email to Docket_OMS@epa.gov or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Gina Moore, Office of Resources and Business Operations, Federal Advisory Committee Management Division, Mail Code 1601M, Environmental Protection Agency, 1200 Pennsylvania Ave. NW, Washington, DC 20460; telephone number: 202-566-0462; email address: moore.gina@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Agency officials developed this form to comply with Executive Order (14035): Diversity, Equity, Inclusion and Accessibility in the Federal Workforce, Section 5(e) that directs the U.S. Environmental Protection Agency to collect and analyze voluntarily self-reported demographic data regarding the membership of federal advisory committees to pursue opportunities to increase diversity, equity, inclusion, and accessibility. When creating the ethnicity, race and demographic items for the form, EPA followed the format of the Employee Viewpoint Survey administered by the U.S. Office of Personnel Management.

This information collection request will assist EPA when selecting members to EPA's scientific and technical federal advisory committees to strengthen opportunities so that members and future nominees reflect the diversity of the American people in terms of gender, race, ethnicity, geography, and other characteristics.

Form Numbers: 5800-068.

Respondents/affected entities: Entities potentially affected by this action are approximately 200 candidates for membership on EPA's federal advisory committees. In an effort to strive for federal advisory committees where future nominees reflect the diversity of America, all nominees are encouraged to complete and submit the form when applying for membership in accordance with Executive Order 14035 of June 25, 2021: Diversity, Equity, Inclusion, and Accessibility in the Federal Workforce.

Respondent's obligation to respond: Voluntary.

Estimated number of respondents: 200 (total).

Frequency of response: Annually.

Total estimated burden: 16.6 hours (per year). Burden is defined at 5 CFR 1320.03(b).

Total estimated cost: $651 (per year). There are no annualized capital or operation & maintenance costs.

Changes in the estimates: There is no change in burden because this is a new information collection request.

Courtney Kerwin,
Director, Regulatory Support Division.

[FR Doc. 2022-23370 Filed 10-26-22; 8:45 am]

BILLING CODE 6560-50-P